DEPARTMENT OF HEALTH AND HUMAN SERVICES

National Institutes of Health

National Cancer Institute; Amended Notice of Meeting

Notice is hereby given of a change in the meeting of the National Cancer Institute Special Emphasis Panel, February 15, 2007, 12 p.m. to February 15, 2007, 6 p.m., National Institutes of Health, 6116 Executive Boulevard, Bethesda, MD 20892 which was published in the Federal Register on January 30, 2007, 72FR4276.

The meeting notice is changed to reflect the date change from February 15, 2007 to March 7, 2007. The meeting is closed to the public.

Dated: February 28, 2007.
Anna Snouffer,
Acting Director, Office of Federal Advisory Committee Policy.

[FR Doc. 07-1036 Filed 3-6-07; 8:45 am]

BILLING CODE 4140-01-M